DEPARTMENT OF TRANSPORTATION

Office of the Secretary

Aviation Proceedings, Agreements filed during the week ending March 2, 2001

The following Agreements were filed with the Department of Transportation under the provisions of 49 U.S.C. Sections 412 and 414. Answers may be filed within 21 days after the filing of the application.

Docket Number: OST-2001-9008.

Date Filed: February 28, 2001.

Parties: Members of the International Air Transport Association.

Subject: PTC12 MEX-EUR 0037 dated 20 February 2001; TC12 North Atlantic Mexico-Europe Expedited Resolution 002g; Intended effective date: 1 April 2001.

Docket Number: OST-2001-9028.

Date Filed: February 28, 2001.

Parties: Members of the International Air Transport Association.

Subject: PTC2 AFR 0100 dated 27 February 2001; TC2 Within Africa Expedited Resolution 002k; Intended effective date: 1 April 2001.

Docket Number: OST-2001-9035.

Date Filed: March 1, 2001.

Parties: Members of the International Air Transport Association.

Subject: PTC12 MEX-EUR 0039 dated 27 February 2001; TC12 North Atlantic Mexico-Europe Resolutions r1-r20; Minutes—PTC12 MEX-EUR 0038 dated 23 February 2001; Tables—PTC12 MEX-EUR Fares 0016 dated 27 February 2001; Intended effective date: 1 May 2001.

Dorothy Y. Beard,
Federal Register Liaison.

[FR Doc. 01-6357 Filed 3-13-01; 8:45 am]

BILLING CODE 4910-62-P